DEPARTMENT OF ENERGY

Federal Energy Regulatory Commission

Combined Notice of Filings

Take notice that the Commission has received the following Natural Gas Pipeline Rate and Refund Report filings:

Filings Instituting Proceedings

Docket Numbers: RP24-1073-000.

Applicants: Carolina Gas Transmission, LLC.

Description: 4(d) Rate Filing: CGT—2024 FRQ and TDA Report to be effective 11/1/2024.

Filed Date: 9/26/24.

Accession Number: 20240926-5017.

Comment Date: 5 p.m. ET 10/8/24.

Docket Numbers: RP24-1074-000.

Applicants: ANR Pipeline Company.

Description: 4(d) Rate Filing: Devon Gas Services 140141—Non-Conforming to be effective 11/1/2024.

Filed Date: 9/26/24.

Accession Number: 20240926-5021.

Comment Date: 5 p.m. ET 10/8/24.

Docket Numbers: RP24-1075-000.

Applicants: Algonquin Gas Transmission, LLC.

Description: 4(d) Rate Filing: Negotiated Rates—Yankee Gas to Emera eff 9-26-24 to be effective 9/26/2024.

Filed Date: 9/26/24.

Accession Number: 20240926-5024.

Comment Date: 5 p.m. ET 10/8/24.

Docket Numbers: RP24-1076-000.

Applicants: Eastern Gas Transmission and Storage, Inc.

Description: 4(d) Rate Filing: EGTS—September 26, 2024 Negotiated Rate and Nonconforming Service Agreements to be effective 11/1/2024.

Filed Date: 9/26/24.

Accession Number: 20240926-5028.

Comment Date: 5 p.m. ET 10/8/24.

Docket Numbers: RP24-1077-000.

Applicants: ETC Tiger Pipeline, LLC.

Description: 4(d) Rate Filing: Update to GT&C Section 33 to be effective 10/26/2024.

Filed Date: 9/26/24.

Accession Number: 20240926-5032.

Comment Date: 5 p.m. ET 10/8/24.

Docket Numbers: RP24-1078-000.

Applicants: ANR Pipeline Company.

Description: 4(d) Rate Filing: GT&C—Early Termination Filing to be effective 10/26/2024.

Filed Date: 9/26/24.

Accession Number: 20240926-5030.

Comment Date: 5 p.m. ET 10/8/24.

Docket Numbers: RP24-1080-000.

Applicants: Viking Gas Transmission Company.

Description: 4(d) Rate Filing: Fuel and Loss Retention Adjustment—Fall 2024 to be effective 11/1/2024.

Filed Date: 9/26/24.

Accession Number: 20240926-5046.

Comment Date: 5 p.m. ET 10/8/24.

Docket Numbers: RP24-1081-000.

Applicants: Enable Gas Transmission, LLC.

Description: 4(d) Rate Filing: Third-Party Capacity Tariff Provisions to be effective 10/26/2024.

Filed Date: 9/26/24.

Accession Number: 20240926-5047.

Comment Date: 5 p.m. ET 10/8/24.

Docket Numbers: RP24-1082-000.

Applicants: El Paso Natural Gas Company, L.L.C.

Description: 4(d) Rate Filing: Negotiated Rate Agreement Update (Shell Oct 2024) to be effective 10/1/2024.

Filed Date: 9/26/24.

Accession Number: 20240926-5052.

Comment Date: 5 p.m. ET 10/8/24.

Docket Numbers: RP24-1083-000.

Applicants: El Paso Natural Gas Company, L.L.C.

Description: 4(d) Rate Filing: Negotiated Rate Agreements Update (AEPCO Oct 2024) to be effective 10/1/2024.

Filed Date: 9/26/24.

Accession Number: 20240926-5089.

Comment Date: 5 p.m. ET 10/8/24.

Docket Numbers: RP24-1084-000.

Applicants: El Paso Natural Gas Company, L.L.C.

Description: 4(d) Rate Filing: Negotiated Rate Agreements Update (Sempra Oct 2024) to be effective 10/1/2024.

Filed Date: 9/26/24.

Accession Number: 20240926-5094.

Comment Date: 5 p.m. ET 10/8/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 26, 2024.
Debbie-Anne A. Reese,
Acting Secretary.

[FR Doc. 2024-22752 Filed 10-2-24; 8:45 am]

BILLING CODE 6717-01-P